DEPARTMENT OF LABOR

Employment and Training Administration

[TA-W-53,801]

Aneco Trousers Corporation, Hanover, PA; Notice of Termination of Investigation

Pursuant to section 221 of the Trade Act of 1974, as amended, an investigation was initiated on December 15, 2003 in response to a petition filed by a company official on behalf of workers at Aneco Trousers Corporation, Hanover, Pennsylvania.

The petitioning group of workers is covered by an earlier petition instituted on December 11, 2003 (TA-W-53,774) that is the subject of an ongoing investigation for which a determination has not yet been issued. Further investigation in this case would duplicate efforts and serve no purpose; therefore the investigation under this petition has been terminated.

Signed at Washington, DC, this 17th day of December, 2003.
Linda G. Poole,
Certifying Officer, Division of Trade Adjustment Assistance.

[FR Doc. 04-650 Filed 1-12-04; 8:45 am]

BILLING CODE 4510-30-P